DEPARTMENT OF THE INTERIOR

National Park Service

[NPS-WASO-NRNHL-DTS#-38366; PPWOCRADI0, PCU00RP14.R50000]

National Register of Historic Places; Notification of Pending Nominations and Related Actions

AGENCY: National Park Service, Interior.

ACTION: Notice.

SUMMARY: The National Park Service is soliciting electronic comments on the significance of properties nominated before July 13, 2024, for listing or related actions in the National Register of Historic Places.

DATES: Comments should be submitted electronically by August 9, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 13, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ILLINOIS

Alexander County

Ward Chapel AME Church, 420 17th Street, Cairo, SG100010699

Cook County

The Rockwell House, 20841 Oak Lane Dr., Olympia Fields, SG100010711

Jackson County

Murphysboro Masonic Lodge No. 498 A.F & A.M, 1115 Chestnut St., Murphysboro, SG100010700

Rock Island County

Skelly Service Station, 820 5th Ave, Moline, SG100010701

United States Housing Corporation (U.S.H.C.) Historic District, Unit 1: Roughly bounded by 16th Avenue on the north, 31st Street on the west, 18th Avenue on the south, and 33rd Street on the east. Unit 2: Roughly bounded by 14th Avenue on the north, 39th Street on the west, 18th Avenue on the south, and 1st Street on Rock Island, SG100010709

KENTUCKY

Campbell County

Stevens, John, House, 2150 Wagoner Road, California, SG100010707

Highland Country Club, 931 Alexandria Pike, Fort Thomas, SG100010708

Franklin County

Capital Plaza Hotel, 405 Wilkinson Boulevard, Frankfort, SG100010696

MARYLAND

Charles County

Pomonkey Historic District, Livingston and Metropolitan Church Roads, Pomonkey, SG100010690

MISSOURI

Scott County

Lincoln School, 229 Westgate, Sikeston, SG100010695

MONTANA

Gallatin County

Westgate Village Shopping Center, 1003, 1005, 1007, 1009, 1011 West College Street, Bozeman, SG100010714

NEBRASKA

Lancaster County

War and Victory, (New Deal Work Relief Projects in Nebraska MPS), 3200 Veterans Memorial Drive, Lincoln, MP100010716

NEW YORK

Bronx County

Boston Road Plaza, 2440 Boston Road, Bronx, SG100010703

Middletown Plaza, 3033 Middletown Road, Bronx, SG100010704

Boston-Secor Houses, 3475, 3550, 3555 Bivona Street, 2175-2185 Reed's Mill Lane, Bronx, SG100010705

Erie County

Commercial Row at Broadway and Michigan Avenue, 163-167 Broadway (Route 130), Buffalo, SG100010706

OHIO

Cuyahoga County

Buckeye Commercial Historic District, 11132-12814 Buckeye Road, 2871, 2884 E 116th Street; 2846 E 118th Street, Cleveland, SG100010698

Cedar Branch Young Men's Christian Association (YMCA), 7515 Cedar Avenue, Cleveland, SG100010710

Lucas County

Sumner Street Bridge, 150 Segur Ave., Toledo, SG100010713

Ross County

Elmdale Grange Hall 2162 and Watson One-Room School, Address Restricted, Chillicothe vicinity, SG100010717

VIRGINIA

Campbell County

Dixon Cemetery, Address Restricted, Concord vicinity, SG100010692

Chesterfield County

Fuqua Farm (Boundary Decrease), 8700 Bethia Rd., Chesterfield, BC100010721

Pittsylvania County

Oak Hill, 5981 Berry Hill Road/U.S. 311, Danville vicinity, SG100010693

Virginia Beach INDEPENDENT CITY

Beach Carousel Motel, (Virginia Beach Oceanfront Resort Motels and Hotels, 1955-1970 MPS), 1300 Pacific Avenue, Virginia Beach, MP100010720

WASHINGTON

Skagit County

Burrows Island Light Station, Far western shore of Burrows Island, Anacortes vicinity, SG100010694

WYOMING

Sublette County

Dunham Place, -285 Dunham Road, Big Piney, SG100010712

Additional documentation has been received for the following resource(s):

MARYLAND

Carroll County

Westminster Historic District (Additional Documentation), MD 32 and MD 97, Westminster, AD80001804

Authority: Section 60.13 of 36 CFR part 60.

Sherry A. Frear,
Chief, National Register of Historic Places/National Historic Landmarks Program.

[FR Doc. 2024-16395 Filed 7-24-24; 8:45 am]

BILLING CODE 4312-52-P